DEPARTMENT OF AGRICULTURE

Natural Resources Conservation Service

Lahaina Watershed, Maui County, HI

AGENCY: Natural Resources Conservation Service, USDA.

ACTION: Notice of Intent to Prepare an Environmental Impact Statement.

SUMMARY: Pursuant to Council on Environmental Quality regulations (40 CFR parts 15001508) implementing the procedural provisions National Environmental Policy Act, the Department of Agriculture, Natural Resources Conservation Service (USDA, NRCS) gives notice that an Environmental Impact Statement (EIS) is being prepared for a proposed flood prevention project in the Lahaina Watershed, Maui County, Hawaii.

FOR FURTHER INFORMATION CONTACT: Kenneth M. Kaneshiro, State Conservationist, Natural Resources Conservation Service, 300 Ala Moana Blvd., Room 4118, Honolulu, Hawaii, 96850, telephone: (808) 5412600 ext. 100.

SUPPLEMENTARY INFORMATION: This federally-assisted action was supported by an Environmental Assessment and Finding of No Significant Impact published in July 1992. No implementation actions were taken at that time due to funding constraints. Recent reevaluation of the project finds a changed project setting and indicates that the project may cause significant impacts to the environment. As a result, Kenneth M. Kaneshiro, State Conservationist, has determined that the preparation and review of an environmental impact statement is needed for this project.

The project will be implemented under authority of the Watershed Protection and Flood Prevention Act (Pub. L. 83-566), as amended, for the purpose of flood prevention. Sponsoring local organizations (SLO) are the County of Maui, Department of Public Works and Waste Management and the West Maui Soil and Water Conservation District.

Alternatives under consideration include a floodwater diversion channel that starts south of Lahainaluna Road and extends to Kauaula Stream. The proposed project also includes the construction of an inlet basin, three (3) sediment basins, a debris basin at Kauaula Stream leading to an outlet at Puamana channel and a second outlet to the south with an additional sediment basin. Other alternatives to meet the objectives of the flood prevention project will be formulated and evaluated.

A draft environmental impact statement will be prepared and circulated for review by agencies and the public. The Natural Resources Conservation Service invites participation and consultation of agencies and individuals that have special expertise, legal jurisdiction, or interest in the preparation of the draft environmental impact statement. All written and verbal comments received in response to this Notice of Intent will be considered in determination of the scope of the environmental impact statement. The SLOs will be issuing an Environmental Impact Statement Preparation Notice (EISPN) pursuant to Hawaii Revised Status (HRS) Chapter 343 and have already begun a public participation process in the affected community, including public meetings and compilation of a list of interested organizations and agencies. This Notice of Intent will be mailed, along with background information on the Lahaina Watershed, to organizations and agencies on the SLO mailing list. The Notice of Intent will also be published in a local newspaper and in the Office of Environmental Quality Control's Environmental Notice. To the extent practicable, NEPA and HRS 343 requirements will be coordinated in the preparation of the EIS document. Due to earlier public scoping meetings held during the federal EA process and ongoing efforts by the SLOs to keep the public informed of this project, a public meeting for the expressed purpose to determine the scope of the evaluation of the project will not be held.

Please provide comments to Kenneth M. Kaneshiro, State Conservationist, at the above address or telephone.

(This activity is listed in the Catalogue of Federal Domestic Assistance under No. 10.904—Watershed Protection and Flood Prevention—and is subject to the provisions of Executive Order 12372 which requires intergovernmental consultation with state and local officials.)
Dated: April 12, 2002.
Kenneth M. Kaneshiro,
State Conservationist.

[FR Doc. 02-9793 Filed 4-19-02; 8:45 am]

BILLING CODE 3210-16-M